DEPARTMENT OF HOMELAND SECURITY

Coast Guard

33 CFR Part 100

[Docket No. USCG-2008-0163]

RIN 1625-AA08

Special Local Regulations for Marine Events; Marine Events in San Diego Harbor

AGENCY: Coast Guard, DHS.

ACTION: Notice of enforcement of regulation.

SUMMARY: The Coast Guard will enforce the special local regulations in 33 CFR 100.1101 during the Coronado 4th of July Fireworks Display, to be held 8:30 p.m. to 10 p.m. on July 4, 2008, on the waters of San Diego Bay, San Diego, California. These special local regulations are necessary to provide for the safety of the participants, crew, spectators, sponsor vessels of the race, and general users of the waterway. Persons and vessels are prohibited from entering into, transiting through, or anchoring within this safety zone unless authorized by the Captain of the Port, or his designated representative.

DATES: 33 CFR 100.1101 will be enforced on July 4, 2008 from 8:30 p.m. until 10 p.m.

FOR FURTHER INFORMATION CONTACT: Petty Officer Kristen Beer, USCG, c/o U.S. Coast Guard Captain of the Port, at (619) 278-7277.

SUPPLEMENTARY INFORMATION: The Coast Guard will enforce special local regulations (SLR) on the navigable waters of Glorietta Bay in support of the Coronado July 4th Fireworks Show on July 4, 2008, from 8:30 p.m. until 10 p.m. These SLR will encompass a 100-foot radius around and under each fireworks barge while the fireworks barge is towed to its firing position. Once the barge is in position for the fireworks show, the SLR will be increased to a 500-yard radius around the barge. In order to ensure the safety of participants, spectators and transiting vessels, 33 CFR 100.1101 will be enforced for the duration of the event. Under provisions of 33 CFR 100.1101, vessels would be prohibited from entering into, transiting through or anchoring within the SLR without permission of the Coast Guard Patrol Commander.

In addition to this notice, the maritime community will be provided extensive advance notification via the Local Notice to Mariners allowing mariners to adjust their plans accordingly.

Dated: June 10, 2008.
C.V. Strangfeld,
Captain, U.S. Coast Guard, Captain of the Port, Sector San Diego.

[FR Doc. E8-14351 Filed 6-24-08; 8:45 am]

BILLING CODE 4910-15-P